DEPARTMENT OF TRANSPORTATION

Federal Aviation Administration

Notice of Intent To Rule on Request To Release Airport Property at the Des Moines International Airport, Des Moines, IA

AGENCY: Federal Aviation Administration, (FAA), DOT.

ACTION: Notice of Request to Release Airport Property.

SUMMARY: The FAA proposes to rule and invites public comment on the release of land at the Des Moines International Airport under the provisions of Section 125 of the Wendell H. Ford Aviation Investment Reform Act for the 21st Century (AIR 21).

DATES: Comments must be received on or before March 5, 2007.

ADDRESSES: Comments on this application may be mailed or delivered to the FAA at the following address: Federal Aviation Administration, Central Region, Airports Division, 901 Locust, Kansas City, Missouri 64106-2325. In addition, one copy of any comments submitted to the FAA must be mailed or delivered to Craig Smith, Aviation Director, at the following address: City of Des Moines, Des Moines International Airport, 5800 Fleur Drive, Des Moines, Iowa 50321-2854.

FOR FURTHER INFORMATION CONTACT: Nicoletta Oliver, Airports Compliance Specialist, FAA, Central Region, 901 Locust, Kansas City, MO 64106-2325, (816) 329-2642. The request to release property may be reviewed in person at this same location.

SUPPLEMENTARY INFORMATION: The FAA proposes to rule and invites public comment on the request to release property at the Des Moines International Airport under the provisions of AIR 21.

On January 19, 2007, the FAA determined that the request to release property at the Des Moines International Airport submitted by the City of Des Moines, met the procedural requirements of the Federal Aviation Administration. The FAA will approve or disapprove the request, in whole or in part, no later than April 30, 2007.

The following is a brief overview of the request.

The City of Des Moines requests the release of approximately 5.07 acres of airport property. The land is not being used for future aeronautical purposes. The release of the property will allow for the sale of the land to generate revenue for the airport. The proceeds would be used for future FAA Airport Improvement Program (AIP) eligible projects at the Des Moines International Airport.

Any person may inspect the request in person at the FAA office listed above under FOR FURTHER INFORMATION CONTACT.

In addition, any person may, upon request, inspect the application, notice and other documents germane to the request in person at the City of Des Moines, Des Moines, Iowa.

Issued in Kansas City, Missouri, on January 19, 2007.
George A. Hendon,
Manager, Airports Division, Central Region.

[FR Doc. 07-437 Filed 1-31-07; 8:45 am]

BILLING CODE 4910-13-M